DEPARTMENT OF TRANSPORTATION

Federal Transit Administration

Notice To Rescind Notice of Intent To Prepare an Environmental Impact Statement for the GA 400 Transit Initiative in Fulton County, Georgia

AGENCY: Federal Transit Administration (FTA), DOT.

ACTION: Rescind Notice of Intent to prepare an environmental impact statement.

SUMMARY: The FTA in cooperation with the Metropolitan Atlanta Rapid Transit Authority (MARTA) is issuing this notice to advise the public that the Notice of Intent (NOI) to prepare an Environmental Impact Statement (EIS) for the proposed public transportation improvement project in Fulton County, Georgia is being rescinded.

FOR FURTHER INFORMATION CONTACT: Mr. Stan Mitchell, Environmental Protection Specialist, Federal Transit Administration Region IV, 230 Peachtree Street NW, Atlanta, GA 30303, phone 404-865-5643, email stanley.a.mitchell@dot.gov.

SUPPLEMENTARY INFORMATION: The FTA, as lead federal agency, and MARTA published a NOI on March 31, 2015 (80 FR 17147) to prepare an EIS for the MARTA GA 400 Transit Initiative project. This project would extend the existing north-south rail Heavy Rail Transit (HRT) line northward from the North Springs MARTA Station to Windward Parkway near the Fulton/Forsyth County border.

Since that time, FTA and MARTA have reevaluated the transit need in the corridor and have determined that a Bus Rapid Transit (BRT) option is more suitable. Based on this change in the transit mode, FTA is rescinding the March 31, 2015 NOI. The environmental impacts of the BRT service along on GA 400 will be evaluated in a yet-to-be-determined document. No changes will be made to the HRT services as described in the March 31, 2015 NOI. Comments and questions concerning the proposed action should be directed to FTA at the address provided above.

Authority: 49 U.S.C. 5323(c); 40 CFR 1501.7.

Yvette G. Taylor,
Regional Administrator, FTA Region IV.

[FR Doc. 2019-15696 Filed 7-23-19; 8:45 am]

BILLING CODE 4910-57-P